DEPARTMENT OF COMMERCE

National Oceanic and Atmospheric Administration

50 CFR Part 679

[Docket No. 041126332-5039-02; I.D. 032305B]

Fisheries of the Exclusive Economic Zone Off Alaska; Pacific Cod by Catcher Vessels Using Trawl Gear in the Bering Sea and Aleutian Islands Management Area

AGENCY: National Marine Fisheries Service (NMFS), National Oceanic and Atmospheric Administration (NOAA), Commerce.

ACTION: Modification of a closure.

SUMMARY: NMFS is reopening directed fishing for Pacific cod by catcher vessels using trawl gear in the Bering Sea and Aleutian Islands management area (BSAI). This action is necessary to utilize the remaining amount of the 2005 first seasonal allowance of the Pacific cod total allowable catch (TAC) specified for catcher vessels using trawl gear in the BSAI.

DATES: Effective 1200 hrs, Alaska local time (A.l.t.), March 29, 2005, through 1200 hrs, A.l.t., April 1, 2005.

FOR FURTHER INFORMATION CONTACT: Josh Keaton, 907-586-7228.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2005 first seasonal allowance of the Pacific cod TAC specified for catcher vessels using trawl gear in the BSAI is 31,345 metric tons (mt) as established by the 2005 and 2006 final harvest specifications for groundfish in the BSAI (70 FR 8979, February 24, 2005), for the period 1200 hrs, A.l.t., January 1, 2005, through 1200 hrs, A.l.t., April 1, 2005. See §§ 679.20(c)(3)(iii), (c)(5), and (a)(7)(i)(B). In accordance with § 679.20(d)(1)(iii), the directed fishery for Pacific cod by catcher vessels using trawl gear was closed effective 1200 hrs, A.l.t., March 13, 2005 (70 FR 12811, March 16, 2005), because it was determined that the 2005 first seasonal allowance of the Pacific cod TAC specified for catcher vessels using trawl gear in the BSAI had been caught.

NMFS has determined that as of March 18, 2005, the remaining amount of the 2005 first seasonal allowance of the Pacific cod TAC specified for catcher vessels using trawl gear in the BSAI is 2,400 metric tons. Therefore, in accordance with §§ 679.25(a)(1)(i), (a)(2)(i)(C) and 679.25(a)(2)(iii)(D), NMFS is terminating the previous closure and is reopening directed fishing for Pacific cod by catcher vessels using trawl gear in the BSAI effective 1200 hrs, A.l.t., March 29, 2005.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reopening of the fishery for the remaining 2005 first seasonal allowance of the Pacific cod TAC specified for catcher vessels using trawl gear in the BSAI

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: March 23, 2005.
Alan D. Risenhoover,
Acting Director, Office of Sustainable Fisheries, National Marine Fisheries Service.

[FR Doc. 05-6184 Filed 3-24-05; 4:30 pm]

BILLING CODE 3510-22-S